DEPARTMENT OF AGRICULTURE

Animal and Plant Health Inspection Service

[Docket No. APHIS-2017-0012]

Notice of Request for Extension of Approval of an Information Collection; Importation of Live Swine, Pork, and Pork Products From Certain Regions Free of Classical Swine Fever in Brazil, Chile, and Mexico

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the regulations for the importation of live swine, pork, and pork products from certain regions free of classical swine fever in Brazil, Chile, and Mexico.

DATES: We will consider all comments that we receive on or BEFORE May 30, 2017.

ADDRESSES: You may submit comments by either of the following methods:

• Federal eRulemaking Portal: Go to http://www.regulations.gov/#!docketDetail;D=APHIS-2017-0012.

• Postal Mail/Commercial Delivery: Send your comment to Docket No. APHIS-2017-0012, Regulatory Analysis and Development, PPD, APHIS, Station 3A-03.8, 4700 River Road, Unit 118, Riverdale, MD 20737-1238.

Supporting documents and any comments we receive on this docket may be viewed at http://www.regulations.gov/#!docketDetail;D=APHIS-2017-0012 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the regulations for the importation of live swine, pork, and pork products from certain regions free of classical swine fever in Brazil, Chile, and Mexico, contact Dr. Magde Elshafie, Senior Staff Veterinary Medical Officer, TTS, National Import Export Services, VS, APHIS, 4700 River Road, Unit 40, Riverdale, MD 20737; (301) 851-3300. For copies of more detailed information on the information collection, contact Ms. Kimberly Hardy, APHIS' Information Collection Coordinator, at (301) 851-2483.

SUPPLEMENTARY INFORMATION:

Title: Importation of Live Swine, Pork, and Pork Products From Certain Regions Free of Classical Swine Fever in Brazil, Chile, and Mexico.

OMB Control Number: 0579-0230.

Type of Request: Extension of approval of an information collection.

Abstract: Under the Animal Health Protection Act (7 U.S.C. 8301 et seq.), the Animal and Plant Health Inspection Service (APHIS) of the United States Department of Agriculture is authorized, among other things, to prohibit or restrict the importation and interstate movement of animals and animal products to prevent the introduction into and dissemination within the United States of livestock diseases and pests. To carry out this mission, APHIS regulates the importation of animals and animal products into the United States. The regulations for the importation of animals and animal products are contained in 9 CFR parts 92 through 98.

Part 94 allows the importation, under certain conditions, of live swine, pork, and pork products from certain regions that are free of classical swine fever (CSF) in Brazil, Chile, and Mexico to prevent the introduction of CSF into the United States. In accordance with § 94.32, APHIS recognizes certain regions in Brazil, Chile, and Mexico as free of CSF but places restrictions on the importation of live swine, pork, and pork products from these regions. These restrictions are placed because these regions either supplement their pork supplies by importing fresh (chilled or frozen) pork from CSF-affected regions, supplement their pork supplies with pork from CSF-affected regions that is not processed in accordance with the requirements in part 94, share a common land border with CSF-affected regions, or import live swine from such regions under conditions less restrictive than would be acceptable for importation into the United States. To ensure that the importation of live swine, pork, and pork products from Brazil, Chile, and Mexico do not introduce CSF into the United States, the regulations include information collection activities, such as certificates, compliance agreements, and cooperative service agreements.

Certificates, which are issued by salaried veterinary officers of the Governments of Brazil, Chile, and Mexico, must accompany swine, pork, and pork products from their respective regions, and must certify that the live swine, pork, and pork products have met the specified requirements in part 94.

A compliance agreement is required from the operators of the processing establishment and states that: All meat processed for importation to the United States will be processed in accordance with the requirements in part 94; a full-time, salaried meat inspection official of the national government of the region in which the processing facility is located will supervise the processing and examination of the product and certify that it has been processed in accordance with the section; and APHIS personnel or other persons authorized by the Administrator may enter the establishment, unannounced, to inspect the establishment and its records.

A cooperative service agreement, which is required by APHIS from the processing establishment, or a party on its behalf, is an agreement with APHIS to pay all expenses incurred by APHIS for the initial evaluation of the processing establishment and periodically thereafter.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 1.0 hour per response.

Respondents: Federal animal health officials of the Governments of Brazil, Chile, and Mexico.

Estimated annual number of respondents: 11.

Estimated annual number of responses per respondent: 273.55.

Estimated annual number of responses: 3,009.

Estimated total annual burden on respondents: 3,009 hours. (Due to averaging, the total annual burden hours may not equal the product of the annual number of responses multiplied by the reporting burden per response.)

All responses to this notice will be summarized and included in the request for OMB approval. All comments will also become a matter of public record.

Done in Washington, DC, this 23rd day of March 2017.
Jere L. Dick,
Acting Administrator, Animal and Plant Health Inspection Service.

[FR Doc. 2017-06090 Filed 3-27-17; 8:45 am]

BILLING CODE 3410-34-P